DEPARTMENT OF HEALTH AND HUMAN SERVICES

Centers for Disease Control and Prevention

[60Day-25-25CY; Docket No. CDC-2025-0006]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled X-Ray Classification Collection for Metal and Nonmetal Miners. The purpose of the proposed data collection is to allow medical providers or their staff to submit the B Reader provided classifications of chest radiographs of miners in the metal and nonmetal industry, to better understand the burden of pneumoconiosis in this workforce, as authorized in the Mine Safety and Health Administration (MSHA) final rule for Respirable Crystalline Silica.

DATES: CDC must receive written comments on or before August 15, 2025.

ADDRESSES: You may submit comments, identified by Docket No. CDC-2025-0006 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

X-Ray Classification Collection for Metal and Nonmetal Miners—New—National Institute for Occupational Safety and Health (NIOSH), Centers for Disease Control and Prevention (CDC).

Background and Brief Description

The National Institute for Occupational Safety and Health (NIOSH), Respiratory Health Division, Surveillance Branch, announces its initiative to collect de-identified data from medical providers obtaining classifications of chest radiographs of miners working in the metal/non-metal (MNM) mining sector. This effort aims to support public health surveillance by aggregating radiographic classifications for miners' chest x-rays by state and commodity. This data collection aligns with the recent Mine Safety and Health Administration (MSHA) regulatory action outlined in the final rule for Respirable Crystalline Silica (30 CFR part 60).

The MSHA final rule, Respirable Crystalline Silica (30 CFR part 60), mandates MNM mine operators to ensure medical examination results, including chest x-ray classifications, are provided to NIOSH by the physician or other licensed health care provider or specialist engaged by the mine operator to provide services within 30 days of the medical examination once NIOSH establishes a reporting system. To comply with this requirement, NIOSH has developed a data collection system leveraging Research Electronic Data Capture (REDCap), a secure, web-based platform commonly used in clinical research to ensure data integrity and confidentiality.

The burden hours are estimated based on limited pilot testing conducted internally using the survey instrument. In these pilot tests, the amount of time for instruction review, collection of mock information, and the survey completion was between 2-4 minutes. The median time of three minutes was used to estimate annual burden hours. Currently, the total number of clinics which will be using this system in the United States is unknown. However, the total number of employed miners in the metal/non-metal industry is known, with 255,702 employed in 2023. MSHA estimated in their regulatory documents that anywhere between 25%-75% of metal/non-metal miners will participate in this program, leading to an annual average number of radiographs submitted to be 13,500. If we take the total number of clinics to be at least double the number of clinics offering NIOSH-approved radiography listed on NIOSH's website (169), then at least 338 clinics will participate.

CDC requests OMB approval for three years, with an estimated 462 annual burden hours. There are no costs to respondents other than their time to participate.

Estimated Annualized Burden Hours
Type of respondents | Form name | Number of respondents | Number of responses per respondent | Average burden per response (in hours) | Total burden (in hours)
Clinics and staff | Request to Access X-ray Classification Submission | 338 | 1 | 1/60 | 6
Clinics and staff | X-ray classification submission for metal and non-metal miners | 338 | 40 | 2/60 | 451
Total |  |  |  |  | 462

Jeffrey M. Zirger,
Lead, Information Collection Review Office, Office of Public Health Ethics and Regulations, Office of Science, Centers for Disease Control and Prevention.

[FR Doc. 2025-10899 Filed 6-13-25; 8:45 am]

BILLING CODE 4163-18-P